DEPARTMENT OF COMMERCE

Submission for OMB Review; Proposed Information Collection; Comment Request; Limited Access Death Master File Systems Safeguards Attestation Forms

The Department of Commerce will submit to the Office of Management and Budget (OMB) for clearance the following proposal for collection of information under the provisions of the Paperwork Reduction Act (44 U.S.C. Chapter 35).

Agency: National Technical Information Service (NTIS), Commerce.

Title: (A) “Limited Access Death Master File (LADMF) Accredited Conformity Assessment Body Systems Safeguards Attestation Form” (ACAB Systems Safeguards Attestation Form).

(B) “Limited Access Death Master File (LADMF) State or Local Government Auditor General (AG) or Inspector General (IG) Systems Safeguards Attestation Form” (AG or IG Systems Safeguards Attestation Form).

OMB Control Number: 0692-XXXX.

Form Number(s): NTIS FM100A and NTIS FM100B.

Type of Request: Emergency request (new information collection).

Number of Respondents:

ACAB Systems Safeguards Attestation Form: NTIS expects to receive approximately 500 ACAB Systems Safeguards Attestation Forms from Persons and Certified Persons annually.

AG or IG Systems Safeguards Attestation Form: NTIS expects to receive approximately 60 AG or IG Systems Safeguards Attestation Forms from Persons and Certified Persons annually.

Average Hours Per Response:

ACAB Systems Safeguards Attestation Form: 3 hours.

AG or IG Systems Safeguards Attestation Form: 3 hours.

Burden Hours:

ACAB Systems Safeguards Attestation Form: 1500 (500 × 3 hours = 1500 hours).

AG or IG Systems Safeguards Attestation Form: 180 (60 × 3 hours = 180 hours).

Needs and Uses: NTIS issued a final rule establishing a program through which persons may become eligible to obtain access to Death Master File (DMF) information about an individual within three years of that individual's death. The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

On December 30, 2014, NTIS initially described a “Limited Access Death Master File Systems Safeguards Attestation Form” in the notice of proposed rulemaking (79 FR 78314 at 78321). To accommodate the requirements of the final rule, NTIS is using both the ACAB Systems Safeguards Attestation Form and the AG or IG Systems Safeguards Attestation Form.

The ACAB Systems Safeguards Attestation Form requires an “Accredited Conformity Assessment Body” (ACAB), as defined in the final rule, to attest that a Person seeking certification or a Certified Person seeking renewal of certification has information security systems, facilities and procedures in place to protect the security of the Limited Access DMF, as required under Section 1110.102(a)(2) of the final rule. The ACAB Systems Safeguards Attestation Form collects information based on an assessment by the ACAB conducted within three years prior to the date of the Person or Certified Person's submission of a completed certification statement under Section 1110.101(a) of the final rule. This collection includes specific requirements of the final rule, which the ACAB must certify are satisfied, and the provision of specific information by the ACAB, such as the date of the assessment and the auditing standard(s) used for the assessment.

Section 1110.501(a)(2) of the final rule provides that a state or local government office of AG or IG and a Person or Certified Person that is a department or agency of the same state or local government, respectively, are not considered to be owned by a common “parent” entity under Section 1110.501(a)(1)(ii) for the purpose of determining independence, and attestation by the AG or IG is possible. The AG or IG Systems Safeguards Attestation Form is for the use of a state or local government AG or IG to attest on behalf of a state or local government department or agency Person or Certified Person. The AG or IG Systems Safeguards Attestation Form requires the state or local government AG or IG to attest that a Person seeking certification or a Certified Person seeking renewal of certification has information security systems, facilities and procedures in place to protect the security of the Limited Access DMF, as required under Section 1110.102(a)(2) of the final rule. The AG or IG Systems Safeguards Attestation Form collects information based on an assessment by the state or local government AG or IG conducted within three years prior to the date of the Person or Certified Person's submission of a completed certification statement under Section 1110.101(a) of the final rule. This collection includes specific requirements of the final rule, which the state or local government AG or IG must certify are satisfied, and the provision of specific information by the state or local government AG or IG, such as the date of the assessment.

NTIS requires emergency clearance under the Paperwork Reduction Act in time to be able to implement the certification program on November 28, 2016.

Affected Public: Accredited Conformity Assessment Bodies and state or local government Auditors General or Inspectors General attesting that a Person seeking certification or a Certified Person seeking renewal of certification under the final rule for the “Certification Program for Access to the Death Master File” has information security systems, facilities and procedures in place to protect the security of the Limited Access DMF, as required by the final rule.

Frequency: Once every three years.

Respondent's Obligation: Mandatory for a Person seeking certification or renewal of certification for access to the Limited Access DMF to have an Accredited Conformity Assessment Body or state or local government Auditor General or Inspector General submit this attestation.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2016-28846 Filed 11-30-16; 8:45 am]

BILLING CODE 3510-13-P